DEPARTMENT OF TRANSPORTATION

Federal Aviation Administration

14 CFR Part 71

[Docket No. FAA-2005-21874; Airspace Docket No. 05-ACE-28]

Modification of Class E Airspace; Dodge City Regional Airport, KS; Correction

AGENCY: Federal Aviation Administration (FAA), DOT.

ACTION: Direct final rule; request for comments; correction.

SUMMARY: This action corrects an error in the legal description of a direct final rule, request for comments that was published in the Federal Register on Friday, July 29, 2005 (70 FR 43744).

DATES: This direct final rule is effective on 0901 UTC, October 27, 2005.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

Federal Register Document 2005-21874 published on Friday, July 29, 2005 (70 FR 43744), modified Class E Airspace at Dodge City, KS. The latitude and longitude used in the airport reference point was incorrect. This action corrects that error.

Accordingly, pursuant to the authority delegated to me, the errors for Class E Airspace, Dodge City, KS as published in the Federal Register Friday, July 29, 2005 (70 FR 43744), (FR Doc. 2005-21874), are corrected as follows:

§ 71.1 [Corrected]

On page 43745, Column 2, change the latitude and longitude of Dodge City Regional Airport, KS to (Lat. 37°45′48″ N., long 99°57′56″ W.) for ACE KS E2 and ACE KS E5.

Issued in Kansas City, MO, on September 28, 2005.
Elizabeth S. Wallis,
Acting Area Director, Western Flight Services Operations.

[FR Doc. 05-20628 Filed 10-13-05; 8:45 am]

BILLING CODE 4910-13-M